DEPARTMENT OF AGRICULTURE

Agricultural Marketing Service

[FV-02-333]

United States Standards for Grades of Dried Figs

AGENCY: Agricultural Marketing Service, USDA.

ACTION: Notice.

SUMMARY: The Agricultural Marketing Service (AMS) of the Department of Agriculture (USDA) is revising the United States Standards for Grades of Dried Figs. The revision will eliminate the present Grade “A” quality level and change the present Grade “B” quality level to the new Grade “A”. This proposal elevates the present Grade “C” quality level to a new Grade “B” level thus eliminating the Grade “C” designation from the United States Standards for Grades of Dried Figs. The existing grade level “Substandard” would remain the same. These changes have been requested by the industry in order to bring the standards for dried figs in line with the present quality levels being marketed today and provide guidance in the effective utilization of dried figs.

EFFECTIVE DATE: December 21, 2001.

FOR FURTHER INFORMATION CONTACT: Lydia E. Berry, Processed Products Branch, Fruit and Vegetable Programs, Agricultural Marketing Service, U.S. Department of Agriculture, STOP 0247,1400 Independence Avenue SW., Washington, DC 20250-0247; fax (202) 690-1087; or e-mail lydia.berry@usda.gov. The current United States Standards for Dried Figs, along with the changes, are available either through the address cited above or by accessing the AMS Home Page on the Internet at: www.ams.usda.gov/standards/dried.htm

The comments from the proposed notice and the final notice will be made available on the internet at: www.ams.usda.gov/fv/ppb.html

The U. S. Standards for Dried Figs do not appear in the Code of Federal Regulations.

SUPPLEMENTARY INFORMATION: Section 203(c) of the Agricultural Marketing Act of 1946, as amended, directs and authorizes the Secretary of Agriculture “to develop and improve standards of quality, condition, quantity, grade and packaging and recommend and demonstrate such standards in order to encourage uniformity and consistency in commercial practices * * *” AMS is committed to carrying out this authority in a manner that facilitates the marketing of agricultural commodities and makes copies of official standards available upon request. The United States Standards for Grades of Fruits and Vegetables no longer appear in the Code of Federal Regulations but are maintained by USDA, AMS, Fruit and Vegetable Programs. AMS is revising the U. S. Standards for Grades of Dried Figs using the procedures that appear in part 36 of Title 7 of the Code of Federal Regulations (7 CFR Part 36).

Proposed by the Petitioner

AMS received a petition from the California Fig Advisory Board requesting the USDA to revise the United States Standards for Grades of Dried Figs. The Board specifically requested that the present grade “A” be eliminated, and that the present grade “B” be elevated to a new grade “A”, the current grade “C” be elevated to a new grade “B” and the level of grade “C” be eliminated in the new standard. The Board also provided information on style, sample size, and descriptions to AMS to revise the standard. The petition was derived from a consensus of the dried fig industry.

Proposed by Fruit and Vegetable Programs, AMS

A notice proposing changes to the United States Standards for Dried Figs based on the petition was published in the May 9, 2001, Federal Register (66 FR 23662). AMS received three comments in response to the notice. Responses were received from California Fig Advisory Board, and two growers. All responses were in favor of the revisions. One grower had requested some further changes to the standard that were not addressed in the original petition, including an additional increase in the moisture tolerance and the inclusion of an additional style. Therefore additional changes should be addressed in a new petition. Based on the submitted information and petition, AMS is revising the standard for dried figs following the standard format for U.S. Grade Standards.

The grade of a sample unit of dried figs is ascertained by considering the factors of varietal characteristics, size, moisture, and flavor and odor which are not scored; the ratings for the factors of color, uniformity of size, defects, and maturity and development, which are scored; the total score; and the limiting rules which apply.

Accordingly, this proposal would establish grade levels “A”, “B” and “Substandard” with corresponding score points assigned for each level. Tolerances for each quality factor for each grade level are established. These changes will bring the standard for dried figs in line with present quality levels being marketed today and provide guidance in the effective utilization of dried figs.

AMS believes that revisions to the standard are needed to meet the needs of industry and that these changes will allow for a better marketing environment for all dried fig producers.

This revision becomes effective 30 days after the date of publication of this notice in the Federal Register.

Authority: 7 U.S.C. 1621-1627.

Dated: November 15, 2001.
A.J. Yates,
Administrator, Agricultural Marketing Service.

[FR Doc. 01-29112 Filed 11-20-01; 8:45 am]

BILLING CODE 3410-02-P